DEPARTMENT OF EDUCATION

Extension of Deadline; Gaining Early Awareness and Readiness for Undergraduate Programs (GEAR UP)—College Savings Account Research Demonstration Project

AGENCY: Office of Postsecondary Education, Department of Education.

ACTION: Notice extending deadline date for the FY 2013 grant competition.

Catalog of Federal Domestic Assistance (CFDA) Number: 84.334D.

SUMMARY: On January 23, 2013, we published in the Federal Register (78 FR 4838) a notice inviting applications for the GEAR UP College Savings Account Research Demonstration Project. The notice established March 11, 2013, as the deadline date for eligible applicants to apply for funding under the program. To allow applicants additional time to respond to program requirements regarding college savings accounts and financial counseling, we are extending the deadline date for transmittal of applications to May 1, 2013.

DATES: Deadline for Transmittal of Applications: May 1, 2013.

FOR FURTHER INFORMATION CONTACT: Catherine St. Clair, Student Service, Office of Postsecondary Education, U.S. Department of Education, 1990 K Street NW., Room 7051, Washington, DC 20006-8524. Telephone: (202) 502-7579 or by email: catherine.stclair@ed.gov.

If you use a telecommunications device for the deaf (TDD) or a text telephone (TTY), call the Federal Relay Service (FRS), toll free, at 1-800-877-8339.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Program Authority: 20 U.S.C. 1070a-21 through 20 U.S.C. 1070a-28.

Dated: March 5, 2013.
David A. Bergeron,
Acting Assistant Secretary for Postsecondary Education.

[FR Doc. 2013-05497 Filed 3-7-13; 8:45 am]

BILLING CODE 4000-01-P